DEPARTMENT OF THE INTERIOR

Bureau of Land Management

[AK940-1310EI-002L-241A; AK940-1310EI-002L-241A]

National Petroleum Reserve—Alaska Oil and Gas Lease Sale 2006

AGENCY: Bureau of Land Management, Interior.

ACTION: Notice of National Petroleum Reserve—Alaska Oil and Gas Lease Sale 2006.

SUMMARY: National Petroleum Reserve—Alaska; Notice of Sale and Notice of Availability of the Detailed Statement of Sale for Oil and Gas Lease Sale 2006.

The Bureau of Land Management, Alaska State Office, will hold an oil and gas lease sale bid opening for the Northeast and Northwest Planning Areas of the National Petroleum Reserve—Alaska.

Tracts offered for competitive bid in the Northeast Planning Area cover land not previously offered for sale, as identified in the January 11, 2006, Record of Decision on the Amended Integrated Activity Plan/Environmental Impact Statement; land previously offered in Sale Numbers 991 (1999) and 2002, but for which no bid was received; and land from leases issued after the 2002 Sale that have been relinquished by lessees. All the tracts in the Northwest Planning Area cover land offered in the 2004 Sale but that did not receive any bid.

DATES: The oil and gas lease sale bid opening will be held at 8 a.m. on September 27, 2006, at the Wilda Marston Theatre in the Z. J. Loussac Public Library, 3600 Denali Street, Anchorage, Alaska.

FOR FURTHER INFORMATION CONTACT: Bob Fisk at (907) 271-4407.

SUPPLEMENTARY INFORMATION: All bids must be submitted by sealed bid in accordance with the provisions identified in the Detailed Statement of Sale and received at the Bureau of Land Management, Alaska State Office, 222 W. 7th Ave., #13, Anchorage, Alaska 99513-7599 no later than 3:45 p.m., September 22, 2006.

The Detailed Statement of Sale for Sale 2006 may be obtained by written request to the Public Information Center, Bureau of Land Management, Alaska State Office, 222 W. 7th Ave., #13, Anchorage, Alaska 99513-7599, or by telephone at (907) 271-5960. It will include, among other things, a description of the land to be offered for lease, the lease terms, conditions, special stipulations, required operating procedures, and how and where to submit bids. It will be available to the public immediately after publication of this Notice.

Dated: June 1, 2006.
Julia Dougan,
State Director, Alaska State Office, Bureau of Land Management.

[FR Doc. E6-13925 Filed 8-22-06; 8:45 am]

BILLING CODE 4310-GG-P